DEPARTMENT OF TRANSPORTATION

Federal Aviation Administration

14 CFR Part 39

[Docket No. FAA-2007-29259; Directorate Identifier 2007-NM-195-AD; Amendment 39-15274; AD 2007-24-08]

RIN 2120-AA64

Airworthiness Directives; Boeing Model 767 Airplanes

AGENCY: Federal Aviation Administration (FAA), Department of Transportation (DOT).

ACTION: Final rule.

SUMMARY: The FAA is superseding an existing airworthiness directive (AD) that applies to all Boeing Model 767 airplanes. That AD currently requires repetitive measurements of the rudder and elevator freeplay, repetitive lubrications of rudder and elevator components, and related investigative/corrective actions if necessary. This new AD instead requires revised repetitive measurements of the rudder freeplay and the elevator freeplay for each of the power control actuators (PCAs) that move the rudder and elevator, corrective and related investigative actions if necessary, and repetitive lubrications of the rudder and elevator components. For some airplanes, this AD also requires related concurrent actions. This AD results from reports of freeplay-induced vibration of the rudder and the elevator. The potential for vibration of the control surface should be avoided because the point of transition from vibration to divergent flutter is unknown. We are issuing this AD to prevent excessive vibration of the airframe during flight, which could result in loss of control of the airplane.

DATES: This AD becomes effective November 28, 2007.

The Director of the Federal Register approved the incorporation by reference of certain publications listed in the AD as of November 28, 2007.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Tamara Anderson, Aerospace Engineer, Airframe Branch, ANM-120S, FAA, Seattle Aircraft Certification Office, 1601 Lind Avenue, SW., Renton, Washington 98057-3356; telephone (425) 917-6421; fax (425) 917-6590.

SUPPLEMENTARY INFORMATION:

Discussion

The FAA issued a notice of proposed rulemaking (NPRM) to amend 14 CFR part 39 to include an AD that supersedes AD 2006-11-12, amendment 39-14616 (71 FR 30272, May 26, 2006). The existing AD applies to all Boeing Model 767 airplanes. That NPRM was published in the Federal Register on September 20, 2007 (72 FR 53701). That NPRM proposed to require revised repetitive measurements of the rudder freeplay and the elevator freeplay for each of the power control actuators (PCAs) that move the rudder and elevator, corrective and related investigative actions if necessary, and repetitive lubrications of the rudder and elevator components. For some airplanes, the NPRM also proposed to require related concurrent actions.

Comments

We provided the public the opportunity to participate in the development of this AD. We have considered the comments that have been received on the NPRM.

Supportive Comment

Boeing concurs with the contents of the proposed AD. British Airways (BA) also supports the need to do rudder and elevator freeplay checks and lubrications.

Request To Extend the Compliance Time of Freeplay Measurements

Air Canada, BA, All Nippon Airways (ANA), and Japan Air Lines (JAL) request that we extend the compliance time in paragraph (g)(1) of the proposed AD from 12 months after the effective date of the AD to 18 months after the effective date of the AD. JAL suggests that if 18 months after the effective date of the AD is not acceptable, 18 months after the release date of the referenced service bulletin would be an acceptable alternative. Air Canada notes that since Boeing was given enough time to revise a service bulletin, operators should be given enough time to plan the job without significant impact on operational schedules. BA notes they have been unable to accomplish the referenced service bulletins because of the unavailability of tooling, and advises that they would not be able to accomplish the AD within the proposed 12 months compliance time without significant out-of-service time. ANA and JAL state that scheduling their fleets to accomplish the AD within the proposed 12 months compliance time is not practical considering the large size of their Model 767 fleet, the C-check maintenance interval (almost 22 months and almost 18 months respectively), and the schedules of their maintenance facilities. ANA adds that manpower and parts provisioning also contribute to scheduling difficulties. ANA, BA, and JAL note that the service bulletin was approved with an 18-month compliance time.

We agree that a change to the compliance time in paragraph (g)(1) of this AD is necessary, since we intended to have the required compliance time coincide with the compliance time recommended in Boeing Special Attention Service Bulletins 767-27-0197 and 767-27-0198, both Revision 1, both dated July 19, 2007. However, we do not agree to change the compliance time to 18 months after the effective date of this AD. As explained in the proposed AD, we have determined that 18 months after the effective date of the AD would not address the unsafe condition soon enough to ensure an adequate level of safety for the fleet. We have revised paragraph (g)(1) to allow a compliance time of 14 months after the effective date of the AD. This compliance time has been coordinated with Boeing.

Conclusion

We reviewed the relevant data, considered the comments received, and determined that air safety and the public interest require adopting the AD with the change described previously. We also determined that this change will not increase the economic burden on any operator or increase the scope of the AD.

Costs of Compliance

There are about 979 airplanes of the affected design in the worldwide fleet. The following table provides the estimated costs for U.S. operators to comply with this AD. No parts are necessary to accomplish any action.

Estimated Costs
Action | Work hours | Average labor rate per hour | Cost per airplane | Number of U.S.- registered airplanes | Fleet cost
Freeplay measurement | 30 | $80 | $2,400, per measurement cycle | 423 | $1,015,200, per measurement cycle.
Lubrication | 27 | 80 | $2,160, per lubrication cycle | 423 | $913,680, per lubrication cycle.

3

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14616 (71 FR 30272, May 26, 2006) and by adding the following new airworthiness directive (AD):

2007-24-08 Boeing: Amendment 39-15274. Docket No. FAA-2007-29259; Directorate Identifier 2007-NM-195-AD.

Effective Date

(a) This AD becomes effective November 28, 2007.

Affected ADs

(b) This AD supersedes AD 2006-11-12.

Applicability

(c) This AD applies to all Boeing Model 767-200, -300, -300F, and -400ER series airplanes, certificated in any category.

Unsafe Condition

(d) This AD results from reports of freeplay-induced vibration of the rudder and the elevator. The potential for vibration of the control surface should be avoided because the point of transition from vibration to divergent flutter is unknown. We are issuing this AD to prevent excessive vibration of the airframe during flight, which could result in loss of control of the airplane.

Compliance

(e) You are responsible for having the actions required by this AD performed within the compliance times specified, unless the actions have already been done.

Service Bulletin References

(f) The term “service bulletin,” as used in this AD, means the Accomplishment Instructions and Appendices A, B, and C of the following service bulletins, as applicable:

(1) For Model 767-200, -300, and -300F series airplanes: Boeing Special Attention Service Bulletin 767-27-0197, Revision 1, dated July 19, 2007; and

(2) For Model 767-400ER series airplanes: Boeing Special Attention Service Bulletin 767-27-0198, Revision 1, dated July 19, 2007.

Repetitive Measurements

(g) At the latest of the compliance times specified in paragraphs (g)(1), (g)(2), and (g)(3) of this AD, as applicable: Measure the rudder and elevator freeplay. Repeat the measurement thereafter at intervals not to exceed 12,000 flight hours or 36 months, whichever occurs first. Do all actions required by this paragraph in accordance with the service bulletin.

(1) Within 14 months after the effective date of this AD.

(2) Within 36 months since the date of issuance of the original standard airworthiness certificate or the date of issuance of the original export certificate of airworthiness.

(3) For the elevator freeplay measurement: Within 12,000 flight hours or within 36 months after the last elevator freeplay inspection accomplished in accordance with Boeing Special Attention Service Bulletin 767-27-0197 or 767-27-0198, both dated October 27, 2005, as applicable, whichever occurs first.

Related Investigative and Corrective Actions

(h) If any measurement found during the measurement required by paragraph (g) of this AD exceeds any applicable limit specified in the service bulletin: Before further flight, do the applicable related investigative and corrective actions in accordance with the service bulletin.

Initial Lubrication

(i) At the latest of the compliance times specified in paragraphs (i)(1), (i)(2), and (i)(3) of this AD, as applicable: Lubricate the rudder and elevator components specified in the service bulletin. Do all actions required by this paragraph in accordance with the service bulletin.

(1) Within 9 months after the effective date of this AD, or within 9 months since the date of issuance of the original standard airworthiness certificate or the date of issuance of the original export certificate of airworthiness; whichever occurs later.

(2) For airplanes on which BMS 3-33 grease is not already in use prior to the time the lubrication task is being accomplished: Within 3,000 flight hours or 9 months after the last lubrication accomplished in accordance with the service bulletin or Boeing Special Attention Service Bulletin 767-27-0197 or 767-27-0198, both dated October 27, 2005, whichever occurs first.

(3) For airplanes on which BMS 3-33 grease is already in use prior to the time the lubrication task is being accomplished: Within 6,000 flight hours or 18 months after the last lubrication accomplished in accordance with the service bulletin or Boeing Special Attention Service Bulletin 767-27-0197 or 767-27-0198, both dated October 27, 2005, whichever occurs first.

Repetitive Lubrication

(j) Repeat the lubrication required in paragraph (i) of this AD at the applicable interval specified in paragraph (j)(1) or (j)(2) of this AD.

(1) For airplanes on which BMS 3-33 grease is not already in use prior to the time the lubrication task is being accomplished: At intervals not to exceed 3,000 flight hours or 9 months, whichever occurs first.

(2) For airplanes on which BMS 3-33 grease is already in use prior to the time the lubrication task is being accomplished: At intervals not to exceed 6,000 flight hours or 18 months, whichever occurs first.

Repetitive Prior or Concurrent Inspection

(k) For airplanes specified in paragraphs (k)(1) and (k)(2) of this AD: Prior to or concurrently with the accomplishment of each elevator freeplay measurement specified in paragraph (g) of this AD, do all applicable actions required by AD 2001-04-09.

(1) Group 1, configuration 2, airplanes as identified in Boeing Special Attention Service Bulletin 767-27-0197, Revision 1, dated July 19, 2007.

(2) Group 1, configuration 1, airplanes as identified in Boeing Special Attention Service Bulletin 767-27-0198, Revision 1, dated July 19, 2007.

Alternative Methods of Compliance (AMOCs)

(l)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) An AMOC that provides an acceptable level of safety may be used for any repair required by this AD, if it is approved by an Authorized Representative for the Boeing Commercial Airplanes Delegation Option Authorization Organization who has been authorized by the Manager, Seattle ACO, to make those findings. For a repair method to be approved, the repair must meet the certification basis of the airplane, and the approval must specifically refer to this AD.

(4) AMOCs approved previously in accordance with AD 2006-11-12 are approved as AMOCs for the corresponding provisions of this AD.

(5) AMOCs approved previously in accordance with AD 2001-04-09, are approved as AMOCs for the corresponding provisions of paragraph (k) of this AD.

Material Incorporated by Reference

(m) You must use Boeing Special Attention Service Bulletin 767-27-0197, Revision 1, dated July 19, 2007; or Boeing Special Attention Service Bulletin 767-27-0198, Revision 1, dated July 19, 2007; as applicable, to perform the actions that are required by this AD, unless the AD specifies otherwise. The Director of the Federal Register approved the incorporation by reference of these documents in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on November 16, 2007.
Ali Bahrami,
Manager, Transport Airplane Directorate, Aircraft Certification Service.

[FR Doc. E7-22854 Filed 11-27-07; 8:45 am]

BILLING CODE 4910-13-P